DEPARTMENT OF VETERANS AFFAIRS

[OMB Control No. 2600-0260]

Proposed Information Collection Activity: Proposed Collection; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on the need to obtain written consent to disclose medical treatment information to individuals or third parties.

DATES: Written comments and recommendations on the proposed collection of information should be received on or before October 24, 2005.

ADDRESSES: Submit written comments on the collection of information to Ann Bickoff, Veterans Health Administration (193E1), Department of Veterans Affairs, 810 Vermont Avenue, NW., Washington, DC 20420 or e-mail ann.bickoff@mail.va.gov. Please refer to “OMB Control No. 2600-0260” in any correspondence.

FOR FURTHER INFORMATION CONTACT: Ann Bickoff at (202) 273-8310.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: a. Request for and Authorization to Release Medical Records or Health Information, VA Form 10-5345.

b. Individual's Request for a Copy of their Own Health Information, VA Form 10-5345a.

OMB Control Number: 2600-0260.

Type of Review: Revision of a currently approved collection.

Abstract: a. VA Form 10-5345 is used to obtain written consent from a patient before information concerning his or her treatment for alcoholism or alcohol abuse, drug abuse, sickle cell anemia, or infection with the human immunodeficiency virus (HIV) can be disclosed to private insurance companies, physicians and other third parties. b. Patients complete VA Form 10-5345 to request a copy of their medical records from VA.

Affected Public: Business or other for profit, Individuals or households, and not for profit institutions.

Estimated Total Annual Burden

a. VA Form 10-5345—16,667 hours.

b. VA Form 10-5345a—16,667 hours.

Estimated Average Burden Per Respondent:

a. VA Form 10-5345—2 minutes.

b. VA Form 10-5345a—2 minutes.

Frequency of Response: On occasion.

Estimated Number of Respondents:

a. VA Form 10-5345—500,000.

b. VA Form 10-5345a—500,000.

Dated: August 11, 2005.
By direction of the Secretary.
Denise McLamb,
Program Analyst, Records Management Service.

[FR Doc. E5-4634 Filed 8-24-05; 8:45 am]

BILLING CODE 8320-01-P